DEPARTMENT OF ENERGY

Federal Energy Regulatory Commission

[Docket No. RP97-28-008]

Wyoming Interstate Company, Ltd; Notice of Negotiated Rate

December 14, 2001.

Take notice that on December 10, 2001, Wyoming Interstate Company, Ltd (WIC) tendered for filing to its FERC Gas Tariff Second, Revised Volume No. 2, the following tariff sheet, to become effective January 9, 2002:

Third Revised Sheet No. 1

WIC states that the tendered tariff sheet and related transportation service agreements are being filed to implement negotiated rate transactions related to the Medicine Bow facilities and for acceptance as non-conforming agreements, if applicable. The transportation service agreements are proposed to become effective December 1, 2001.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-31314 Filed 12-19-01; 8:45 am]

BILLING CODE 6717-01-P